DEPARTMENT OF TRANSPORTATION

Coast Guard

[USCG-2001-8895]

Towing Safety Advisory Committee

AGENCY: Coast Guard, DOT.

ACTION: Notice of meetings.

SUMMARY: The Towing Safety Advisory Committee (TSAC), its working groups on Licensing Implementation, Fire Suppression, Casualty Analysis, and Voyage Planning will meet as required to discuss various issues relating to shallow-draft inland and coastal waterway navigation and towing safety. All meetings will be open to the public.

DATES: TSAC will meet on Thursday, March 15, 2001, from 8 a.m. to 12:30 p.m. The working groups will meet on Wednesday, March 14, 2001, from 9 a.m. to 3:30 p.m. These meetings may close early if all business is finished. Written material and requests to make oral presentations should reach the Coast Guard on or before March 1, 2001. Requests to have a copy of your material distributed to each member of the Committee or working groups should reach the Coast Guard on or before March 1, 2001.

ADDRESSES: TSAC will meet in room 2415, U.S. Coast Guard Headquarters, 2100 Second Street SW., Washington, DC. The working groups will begin in the same room and may move to separate spaces designated at that time. Send written material and requests to make oral presentations to Mr. Gerald P. Miante, Commandant (G-MSO-1), U.S. Coast Guard Headquarters, 2100 Second Street SW., Washington, DC 20593-0001. This notice is available on the Internet at http://dms.dot.gov.

FOR FURTHER INFORMATION CONTACT: Mr. Gerald P. Miante, Assistant Executive Director, telephone 202-267-0229, fax 202-267-4570, or e-mail at: gmiante@comdt.uscg.mil.

SUPPLEMENTARY INFORMATION: Notice of these meetings is given under the Federal Advisory Committee Act, 5 U.S.C. App. 2.

Agenda of Meetings

The agenda tentatively includes the following:

(1) Report of the License Implementation Work Group.

(2) Status report on the International Maritime Information Safety System (IMISS).

(3) Status Report on the Automatic Identification System (AIS).

(4) Status report of the rulemaking on Licensing and Manning of Towing Vessels.

(5) Status report of the Navigation and Vessel Inspection Circular (NVIC) on License Implementation.

(6) Status report of the rulemaking on Fire-Suppression Systems and Voyage Planning for Towing Vessels.

(7) Status report of the R&D studies on Mariner Alertness.

(8) Report on recently compiled data and analyses for the towing industry.

(9) Introduction of the “Crew Alertness Campaign.”

Procedural

All meetings are open to the public. Please note that the meetings may close early if all business is finished. At the Chair's discretion, members of the public may make oral presentations during the meetings. If you would like to make an oral presentation at a meeting, please notify the Executive Director no later than March 1, 2001. Written material for distribution at a meeting should reach the Coast Guard no later than March 1, 2001. If you would like a copy of your material distributed to each member of the committee or subcommittee in advance of a meeting, please submit 25 copies to the Assistant Executive Director no later than March 1, 2001.

Information on Services for Individuals with Disabilities

For information on facilities or services for individuals with disabilities or to request special assistance at the meetings, contact the Assistant Executive Director as soon as possible.

Dated: February 12, 2001.
Joseph J. Angelo,
Director of Standards, Marine Safety and Environmental Protection.

[FR Doc. 01-4278 Filed 2-20-01; 8:45 am]

BILLING CODE 4910-15-U